DEPARTMENT OF ENERGY

Federal Energy Regulatory Commission

Combined Notice of Filings

Take notice that the Commission has received the following Natural Gas Pipeline Rate and Refund Report filings:

Filings Instituting Proceedings

Docket Numbers: RP25-798-000.

Applicants: Columbia Gas Transmission, LLC.

Description: § 4(d) Rate Filing: TCO Negotiated Rate Agreements Eff. 4.1.25 to be effective 4/1/2025.

Filed Date: 4/1/25.

Accession Number: 20250401-5313.

Comment Date: 5 p.m. ET 4/14/25.

Docket Numbers: RP25-799-000.

Applicants: Equitrans, L.P.

Description: § 4(d) Rate Filing: Negotiated Rate Agreement—4/1/2025 to be effective 4/1/2025.

Filed Date: 4/1/25.

Accession Number: 20250401-5333.

Comment Date: 5 p.m. ET 4/14/25.

Docket Numbers: RP25-800-000.

Applicants: Texas Gas Transmission, LLC.

Description: Compliance filing: Neg Rate Compliance Filing re CP21-467-000 (38862 & 38863) to be effective 4/1/2025.

Filed Date: 4/1/25.

Accession Number: 20250401-5336.

Comment Date: 5 p.m. ET 4/14/25.

Docket Numbers: RP25-801-000.

Applicants: Gulf South Pipeline Company, LLC.

Description: § 4(d) Rate Filing: Amendment to Neg Rate Agmts (FPL 55411, 41618, 41619) to be effective 4/1/2025.

Filed Date: 4/1/25.

Accession Number: 20250401-5343.

Comment Date: 5 p.m. ET 4/14/25.

Docket Numbers: RP25-802-000.

Applicants: Texas Eastern Transmission, LP.

Description: § 4(d) Rate Filing: Negotiated Rates—Various Releases eff 4-1-25 to be effective 4/1/2025.

Filed Date: 4/1/25.

Accession Number: 20250401-5362.

Comment Date: 5 p.m. ET 4/14/25.

Docket Numbers: RP25-803-000.

Applicants: Gulf South Pipeline Company, LLC.

Description: § 4(d) Rate Filing: Cap Rel Neg Rate Agmts (FPL 41618, 41619 to Scona 59016, 59017) to be effective 4/1/2025.

Filed Date: 4/1/25.

Accession Number: 20250401-5385.

Comment Date: 5 p.m. ET 4/14/25.

Docket Numbers: RP25-804-000.

Applicants: Gulf South Pipeline Company, LLC.

Description: § 4(d) Rate Filing: Cap Rel Neg Rate Agmt (Methanex 52142 to Tenaska 59186) to be effective 4/1/2025.

Filed Date: 4/1/25.

Accession Number: 20250401-5404.

Comment Date: 5 p.m. ET 4/14/25.

Docket Numbers: RP25-805-000.

Applicants: Gulf South Pipeline Company, LLC.

Description: § 4(d) Rate Filing: Cap Rel Neg Rate Agmt (Osaka 46429 to Texla 59183) to be effective 4/1/2025.

Filed Date: 4/1/25.

Accession Number: 20250401-5413.

Comment Date: 5 p.m. ET 4/14/25.

Docket Numbers: RP25-806-000.

Applicants: ANR Pipeline Company.

Description: § 4(d) Rate Filing: ANR April 1 NR Agmts to be effective 4/1/2025.

Filed Date: 4/1/25.

Accession Number: 20250401-5424.

Comment Date: 5 p.m. ET 4/14/25.

Docket Numbers: RP25-807-000.

Applicants: Equitrans, L.P.

Description: § 4(d) Rate Filing: Negotiated Rate Capacity Release Agreements—04/01/2025 to be effective 4/1/2025.

Filed Date: 4/1/25.

Accession Number: 20250401-5430.

Comment Date: 5 p.m. ET 4/14/25.

Docket Numbers: RP25-808-000.

Applicants: Gulf South Pipeline Company, LLC.

Description: § 4(d) Rate Filing: Cap Rel Neg Rate Agmts (JERA 46435, 46434 to JERA Americas 58871, 58872) to be effective 4/1/2025.

Filed Date: 4/1/25.

Accession Number: 20250401-5432.

Comment Date: 5 p.m. ET 4/14/25.

Docket Numbers: RP25-809-000.

Applicants: Rockies Express Pipeline LLC.

Description: Compliance filing: REX 2025-04-01 Annual Purchases and Sales Report to be effective N/A.

Filed Date: 4/1/25.

Accession Number: 20250401-5455.

Comment Date: 5 p.m. ET 4/14/25.

Docket Numbers: RP25-810-000.

Applicants: Trailblazer Pipeline Company LLC.

Description: Compliance filing: TPC 2025-04-01 2024 Annual Purchases and Sales Report to be effective N/A.

Filed Date: 4/1/25.

Accession Number: 20250401-5458.

Comment Date: 5 p.m. ET 4/14/25.

Docket Numbers: RP25-811-000.

Applicants: Golden Pass Pipeline LLC.

Description: Compliance filing: Golden Pass Pipeline Revised Tariff Records Re: Order No. 587-AA to be effective 4/1/2025.

Filed Date: 4/2/25.

Accession Number: 20250402-5002.

Comment Date: 5 p.m. ET 4/14/25.

Docket Numbers: RP25-812-000.

Applicants: Rover Pipeline LLC.

Description: § 4(d) Rate Filing: Summary of Negotiated Rate Capacity Release Agreements 4-2-2025 to be effective 4/1/2025.

Filed Date: 4/2/25.

Accession Number: 20250402-5072.

Comment Date: 5 p.m. ET 4/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 2, 2025.
Carlos D. Clay,
Deputy Secretary.

[FR Doc. 2025-05996 Filed 4-7-25; 8:45 am]

BILLING CODE 6717-01-P